DEPARTMENT OF AGRICULTURE

Food and Nutrition Service

Agency Information Collection Activities: Proposed Collection; Comment Request—Form FNS-339, Federal-State Supplemental Nutrition Program(s) Agreement

AGENCY: Food and Nutrition Service, USDA.

ACTION: Notice.

SUMMARY: In accordance with the Paperwork Reduction Act of 1995, this notice invites the general public and other public agencies to comment on proposed information collections. The proposed information collection is a revision to a currently approved collection of information relating to the reporting and recordkeeping burden associated with completing and submitting form FNS-339, the Federal and State Agreement for the Special Supplemental Nutrition Program for Women, Infants and Children (WIC); the WIC Farmers' Market Nutrition Program (FMNP); and/or the Senior Farmers' Market Nutrition Program (SFMNP).

DATES: Written comments on this notice must be received on or before August 23, 2011.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Debra Whitford, Director, Supplemental Food Programs Division, Food and Nutrition Service, U.S. Department of Agriculture, 3101 Park Center Drive, Room 520, Alexandria, VA 22302. Comments may also be submitted via email to WICHQ-SFPD@fns.usda.gov. Be sure to include the title of the Notice in the subject line of the message. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302, Room 518. All responses to this Notice will be summarized and included in the request for OMB approval, and will become a matter of public record.

FOR FURTHER INFORMATION CONTACT: Requests for additional information or copies of the information collection form and instructions should be directed to: Joan Carroll, (703) 305-2746.

SUPPLEMENTARY INFORMATION: Title: Federal-State Supplemental Nutrition Program(s) Agreement.

OMB Number: 0584-0332.

Form Number: FNS-339.

Expiration Date: November 30, 2012.

Type of Request: Revision of a currently approved collection.

Abstract: The Healthy, Hunger-Free Kids Act of 2010 (the Act), Public Law 111-296, was enacted by the President on December 13, 2010. Section 361 of the Act requires that the Secretary of Agriculture incorporate in the Federal-State Agreement (form FNS-339) a provision for the WIC Program and FMNP that supports full use of Federal funds and excludes such funds from State budget restrictions or limitations including, at a minimum, hiring freezes, work furloughs, and travel restrictions affecting the WIC Program or the FMNP. Additional technical amendments are also being made to the FNS-339, as follows: (1) The title is changed to include FMNP and SFMNP; (2) coverage by statutes as well as regulations is added; (3) references to FMNP and SFMNP are added as necessary and appropriate; and (4) several typographical errors are corrected.

The agreement requires the signature of the Chief State agency official and includes a certification/assurance regarding drug free workplace, a certification regarding lobbying and a disclosure of lobbying activities. The signed agreement is the contract between USDA and each State agency that administers WIC, FMNP and SFMNP, thereby authorizing USDA to release funds to the State agencies for the administration of the Program(s) in the jurisdiction of the State in accordance with the provisions of 7 CFR parts 246, 248, and/or 249.

This revision does not increase the burden per response. However, the number of respondents (agencies administering WIC, FMNP and SFMNP) increased from 140 to 142 increasing the total annual burden from 35 to 35.5 hours.

Estimate of Burden: Public reporting burden for this collection of information is estimated to average 0.25 hours per response, including the time for reviewing instructions, searching existing data sources, gathering and maintaining the data needed, and completing and reviewing the collection of information.

Affected Public: State, Territorial and Tribal Agencies: Respondent Type: The Chief Health Officer of the WIC State agency, or the Chief Agency Official of the FMNP or SFMNP State agency (e.g., a State Commissioner of Agriculture or Agency on Aging), if not administered by the WIC State agency in that state.

Estimated Number of Respondents: 142 respondents.

Estimated Number of Responses per Respondent: One.

Estimated Total Annual Burden on Respondents: 35.5 hours.

Dated: June 15, 2011.
Audrey Rowe,
Administrator, Food and Nutrition Service.

[FR Doc. 2011-15873 Filed 6-23-11; 8:45 am]

BILLING CODE 3410-30-P